DEPARTMENT OF ENERGY

Federal Energy Regulatory Commission

Combined Notice of Filings

Take notice that the Commission has received the following Natural Gas Pipeline Rate and Refund Report filings:

Filings Instituting Proceedings

Docket Numbers: PR14-10-000.

Applicants: Ohio Valley Hub, LLC.

Description: Notice of Cancellation of Operating Statement.

Filed Date: 12/2/13.

Accession Number: 20131202-5165.

Comments Due: 5 p.m. ET 12/23/13.

Docket Numbers: RP14-252-000.

Applicants: Enable Gas Transmission, LLC.

Description: Negotiated Rate Filing—December 2013—Tenaska Att A 9840 to be effective 12/5/2013.

Filed Date: 12/5/13.

Accession Number: 20131205-5115.

Comments Due: 5 p.m. ET 12/17/13.

Docket Numbers: RP14-253-000.

Applicants: Algonquin Gas Transmission, LLC.

Description: Cancel X-Rate Schedules—Docket CP13-490 Compliance Filing to be effective 12/1/2013.

Filed Date: 12/5/13.

Accession Number: 20131205-5120.

Comments Due: 5 p.m. ET 12/17/13.

Docket Numbers: RP14-256-000.

Applicants: Tennessee Gas Pipeline Company, L.L.C.

Description: Volume No. 2—Rate Schedule X-65—Cancelled to be effective 12/1/2013.

Filed Date: 12/6/13.

Accession Number: 20131206-5058.

Comments Due: 5 p.m. ET 12/18/13.

Docket Numbers: RP14-257-000.

Applicants: Equitrans, L.P.

Description: Notice Regarding Non-Jurisdictional Gathering Facilities of Equitrans, L.P.

Filed Date: 12/6/13.

Accession Number: 20131206-5079.

Comments Due: 5 p.m. ET 12/18/13.

Docket Numbers: RP14-258-000.

Applicants: Bobcat Gas Storage.

Description: No-Notice Storage Service to be effective 3/1/2014.

Filed Date: 12/6/13.

Accession Number: 20131206-5142.

Comments Due: 5 p.m. ET 12/18/13.

Docket Numbers: RP14-259-000.

Applicants: Egan Hub Storage, LLC.

Description: No-Notice Storage Service to be effective 3/1/2014.

Filed Date: 12/6/13.

Accession Number: 20131206-5143.

Comments Due: 5 p.m. ET 12/18/13.

Docket Numbers: RP14-260-000.

Applicants: Steckman Ridge, LP.

Description: No-Notice Storage Service to be effective 3/1/2014.

Filed Date: 12/6/13.

Accession Number: 20131206-5144.

Comments Due: 5 p.m. ET 12/18/13.

Docket Numbers: RP14-261-000.

Applicants: Rager Mountain Storage Company LLC.

Description: Re-Collation Filing to be effective 12/31/9998.

Filed Date: 12/6/13.

Accession Number: 20131206-5165.

Comments Due: 5 p.m. ET 12/13/13.

Docket Numbers: RP14-262-000.

Applicants: Dominion Transmission, Inc.

Description: DTI—Petition for Approval of Settlement.

Filed Date: 12/6/13.

Accession Number: 20131206-5166.

Comments Due: 5 p.m. ET 12/18/13.

Docket Numbers: RP14-263-000.

Applicants: East Cheyenne Gas Storage, LLC.

Description: ECGS tariff filing to be effective 1/5/2014.

Filed Date: 12/6/13.

Accession Number: 20131206-5184.

Comments Due: 5 p.m. ET 12/18/13.

Docket Numbers: RP14-264-000.

Applicants: Rager Mountain Storage Company LLC.

Description: RMSC Compliance Filing Docket No. CP13-139-000 to be effective 12/31/9998.

Filed Date: 12/6/13.

Accession Number: 20131206-5194.

Comments Due: 5 p.m. ET 12/18/13.

Docket Numbers: RP14-265-000.

Applicants: Rockies Express Pipeline LLC.

Description: Neg Rate 2013-12-06 BP NC NRA to be effective 12/7/2013.

Filed Date: 12/6/13.

Accession Number: 20131206-5236.

Comments Due: 5 p.m. ET 12/18/13.

Docket Numbers: RP14-266-000.

Applicants: Carolina Gas Transmission Corporation.

Description: IT Revenue Sharing—BH to be effective 1/1/2014.

Filed Date: 12/9/13.

Accession Number: 20131209-5207.

Comments Due: 5 p.m. ET 12/23/13.

Docket Numbers: RP14-267-000.

Applicants: Iroquois Gas Transmission System, L.P.

Description: Iroquois Gas Transmission System, L.P. submits tariff filing per 154.204: 12/10/13 Negotiated Rates—ConEdison Energy Inc. (HUB) 2275-89 to be effective 12/10/2013.

Filed Date: 12/10/13.

Accession Number: 20131210-5020.

Comments Due: 5 p.m. ET 12/23/13.

Docket Numbers: RP14-268-000.

Applicants: Iroquois Gas Transmission System, L.P.

Description: Iroquois Gas Transmission System, L.P. submits tariff filing per 154.204: 12/11/13 Negotiated Rates—JP Morgan Ventures Energy Corp (HUB) 6025-89 to be effective 12/11/2013.

Filed Date: 12/11/13.

Accession Number: 20131211-5000.

Comments Due: 5 p.m. ET 12/23/13.

Docket Numbers: RP14-269-000.

Applicants: Iroquois Gas Transmission System, L.P.

Description: Iroquois Gas Transmission System, L.P. submits tariff filing per 154.204: 12/11/13 Negotiated Rates—Sequent Energy Management (HUB) 3075-89 to be effective 12/11/2013.

Filed Date: 12/11/13.

Accession Number: 20131211-5001.

Comments Due: 5 p.m. ET 12/23/13.

Docket Numbers: RP14-270-000.

Applicants: Iroquois Gas Transmission System, L.P.

Description: Iroquois Gas Transmission System, L.P. submits tariff filing per 154.204: 12/11/13 Negotiated Rates—Tenaska Gas Storage, LLC (HUB) to be effective 12/11/2013.

Filed Date: 12/11/13.

Accession Number: 20131211-5002.

Comments Due: 5 p.m. ET 12/23/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-182-001.

Applicants: Natural Gas Pipeline Company of America.

Description: Amendment to Negotiated Rate—Town of Corning, IL to be effective 12/1/2013.

Filed Date: 12/5/13.

Accession Number: 20131205-5160.

Comments Due: 5 p.m. ET 12/17/13.

Docket Numbers: RP14-183-001.

Applicants: Natural Gas Pipeline Company of America.

Description: Amendment to Negotiated Rate—City of Sullivan to be effective 12/1/2013.

Filed Date: 12/6/13.

Accession Number: 20131206-5178.

Comments Due: 5 p.m. ET 12/18/13.

Docket Numbers: RP13-1371-001.

Applicants: Eastern Shore Natural Gas Company.

Description: Correction of eTariff Metadata to be effective 11/1/2013.

Filed Date: 12/9/13.

Accession Number: 20131209-5222.

Comments Due: 5 p.m. ET 12/23/13.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 11, 2013.
Nathaniel J. Davis, Sr.,
Deputy Secretary.

[FR Doc. 2013-29929 Filed 12-16-13; 8:45 am]

BILLING CODE 6717-01-P